DEPARTMENT OF DEFENSE

Department of the Army, Corps of Engineers

33 CFR Part 207

St. Marys Falls Canal and Locks, Michigan; Use, Administration and Navigation

Correction

In rule document 01-14023 beginning on page 30063 in the issue of Tuesday, June 5, 2001, make the following correction:

§207.441 [Corrected]

On page 30063, in §207.441, in the fourth line, “ÿ7E(1) Tanker vessels-(i) Hazardous material.” should read “(4)Tanker vessels-(i) Hazardous material.”.

[FR Doc. C1-14023 Filed 6-8-01; 8:45 am]

BILLING CODE 1505-01-D

DEPARTMENT OF HEALTH AND HUMAN SERVICES

Centers for Disease Control and Prevention

[Program Announcement 01130]

National Program to Promote Physical Activity Among Youth; Notice of Availability of Funds; Correction

Correction

In notice document 01-13735 beginning on page 29821 in the issue of Friday June 1, 2001, make the following correction:

On page 29821, in the third column, under the heading FOR FURTHER INFORMATION CONTACT, in the second paragraph, in the sixth line “[Program Announcement 011230]” should read “[Program Announcement 01130]”.

[FR Doc. C1-13735 Filed 6-8-01; 8:45 am]

BILLING CODE 1505-01-D

DEPARTMENT OF HEALTH AND HUMAN SERVICES

Office of Public Health and Science

Announcement of Availability of Funds for Research in Family Planning Service Delivery Improvement

Correction

In notice document 01-13743 beginning on page 29812 in the issue of Friday, June 1, 2001, make the following corrections:

1. On page 29812, in the first column, under SUMMARY:, in the ninth line, “undeserved” should read “underserved”.

2. On the same page, in the same column, under DATES:, in the third line from the bottom, “announcement will be accepted for” should read “announcement will not be accepted for”.

3. On the same page, in the second column, under SUPPLEMENTARY INFORMATION:, in the third paragraph, in the second line, “subject” should read “subjects”.

4. On the same page, in the same column, under the same heading, in the fourth paragraph, in the fourth line, “trough” should read “through”.

5. On the same page, in the same column, in the same paragraph, in the sixth line, “achieve” should read “archive”.

6. On the same page, in the third column, under Underserved Populations, in the second paragraph, in the seventh line from bottom, “come” should read “some”.

7. On the same page, in the same column, in the same paragraph, in the last line, “populations” should read “population”.

[FR Doc. C1-13743 Filed 6-8-01; 8:45 am]

BILLING CODE 1505-01-D

DEPARTMENT OF THE INTERIOR

Bureau of Land Management

[WY-920-1320-EL, WYW153411]

Coal Lease Exploration License, WY

Correction

In notice document 01-13121 beginning on page 28758 in the issue of Thursday May 24, 2001, make the following correction:

On page 28759, in the first column, in the eighth and ninth lines

“Sec. 25: Lots 1-16; T. 44 N., R 71 W., 6th P.M., Wyoming”

should read;

“Sec. 25: Lots 1-16;

T. 44 N., R 71 W., 6th P.M., Wyoming”.

[FR Doc. C1-13124 Filed 6-8-01; 8:45 am]

BILLING CODE 1505-01-D

DEPARTMENT OF JUSTICE

[AAG/A Order No. 221-2001]

Privacy Act of 1974; System of Records

Correction

In notice document 01-5706 beginning on page 13966 in the issue of Thursday, March 8, 2001, make the following correction:

On page 13967, in the first column, in the sixteenth line, “geological” should read “geographical”.

[FR Doc. C1-5706 Filed 6-8-01; 8:45 am]

BILLING CODE 1505-01-D